DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by December 30, 2005.

Title, Form, and OMB Number: Department of Defense Standard tender of Freight Services; SDDC Form 364-R; OMB Control Number 0704-0261.

Type of Request: Extension.

Number of Respondents: 434.

Responses Per Respondent: 50 (average).

Annual Responses: 21,563.

Average Burden Per Response: 15 minutes.

Annual Burden Hours: 5,391.

Needs and Uses: The information derived from the DoD tenders on file with the Military surface Deployment and Distribution Command (SDDC) is used by SDDC subordinate commands and DoD shippers to select the best value carriers to transport surface freight shipments. Freight carriers furnish information in a uniform format so that the Government can determine the cost of transportation, accessorial, and security services, and select the best value carriers for 1.1 million Bill of Lading shipments annually. The DoD tender rate and other pertinent tender data are noted on the Bill of Lading at the time of shipment. The DoD tender is the source document for the General Services Administration post-shipment audit of carrier freight bills.

Affected Public: Not-for-profit institutions.

Frequency: On occasion.

Respondent's Obligation: Required to obtain or retain benefits.

OMB Desk Officer: Ms. Hillary Jaffe.

Written comments and recommendations on the proposed information collection should be sent to Ms. Jaffe at the Office of Management and Budget, Desk Officer for DoD, Room 10236, New Executive Office Building, Washington, DC 20503.

DOD Clearance Officer: Ms. Patricia Toppings.

Written requests for copies of the information collection proposal should be sent to Ms. Toppings at WHS/ESD/Information Management Division, 1777 North Kent Street, RPN, Suite 11000, Arlington, VA 22209-2133.

Dated: November 22, 2005.
Patricia L. Toppings,
Alternate OSD Federal Register Liaison Officer, Department of Defense.

[FR Doc. 05-23484 Filed 11-29-05; 8:45 am]

BILLING CODE 5001-06-M